DEPARTMENT OF THE INTERIOR

National Park Service

[NPS-WASO-NAGPRA-NPS0024864; PPWOCRADN0-PCU00RP14.R50000]

Notice of Inventory Completion: U.S. Department of the Interior, Bureau of Land Management, Alaska State Office, Anchorage, AK

AGENCY: National Park Service, Interior.

ACTION: Notice.

SUMMARY: The U.S. Department of the Interior, Bureau of Land Management (BLM), Alaska State Office, has completed an inventory of human remains, in consultation with the appropriate Indian Tribes, and has determined that there is a cultural affiliation between the human remains and present-day Indian Tribes. Lineal descendants or representatives of any Indian Tribe not identified in this notice that wish to request transfer of control of these human remains should submit a written request to the BLM, Alaska State Office. If no additional requestors come forward, transfer of control of the human remains to the Indian Tribes stated in this notice may proceed.

DATES: Lineal descendants or representatives of any Indian Tribe not identified in this notice that wish to request transfer of control of these human remains should submit a written request with information in support of the request to the BLM, Alaska State Office, at the address in this notice by March 26, 2018.

ADDRESSES: Dr. Robert King, BLM-Alaska State NAGPRA Coordinator, 222 West 7th Avenue, Box 13, Anchorage, AK 99513-7599, telephone (907) 271-5510, email r2king@blm.gov.

SUPPLEMENTARY INFORMATION: Notice is here given in accordance with the Native American Graves Protection and Repatriation Act (NAGPRA), 25 U.S.C. 3003, of the completion of an inventory of human remains under the control of the BLM, and housed at the University of Alaska Museum of the North. The human remains were removed from the Crag Point Site (KOD-00044), Kodiak Island, AK, on land administered by the BLM.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the BLM, Alaska State Office, and the University of Alaska Museum of the North professional staff, with additional information provided by the Alutiiq Museum and Archaeological Repository, in consultation with representatives of Native Village of Ouzinkie, the past and present-day inhabitants of Kodiak Island.

History and Description of the Remains

In 1986, human remains representing, at minimum, 26 individuals were removed from the Crag Point archeological site (KOD-00044), located inside Crag Point, on the west side of the entrance to Anton Larsen Bay, on the north coast of Kodiak Island, AK, on land administered by the BLM. The site was extensively excavated by Richard W. Jordan, an archeologist with Bryn Mawr College, and human remains were accessioned by the University of Alaska Museum of the North (accession number UA86-202). These partial sets of human remains represent two adult males, 21-35 years old; one adult male, 25-35 years old; one adult male, 35-45 years old; one adult female 21-35 years old; one adult female over 50 years old; two adults of indeterminate sex and age; one juvenile of indeterminate sex, 1-3 years old; and 17 individuals of indeterminate sex and age. No known individuals were identified. No associated funerary objects are present.

The human remains are determined to be Native American based on the geographic location (Kodiak Island, AK), the condition of the human remains, and their morphology. Nine of the individuals were excavated from burials and the other 17 individuals were from three collections of “scattered remains.” Radiocarbon dating of organic materials contextually associated with the human remains date within the last 2,000 years. Archeological studies and oral traditions show a 7,500-year ancestry between present-day and past residents on Kodiak Island. Therefore, the human remains are determined to be directly related to Kodiak Alutiiq people represented by the Native Village of Ouzinkie.

Determinations Made by the Bureau of Land Management, Alaska State Office

Officials of the BLM, Alaska State Office, have determined that:

• Pursuant to 25 U.S.C. 3001(9), the human remains described in this notice represent the physical remains of 26 individuals of Native American ancestry.

• Pursuant to 25 U.S.C. 3001(2), there is a relationship of shared group identity that can be reasonably traced between the Native American human remains and the Native Village of Ouzinkie.

Additional Requestors and Disposition

Lineal descendants or representatives of any Indian Tribe not identified in this notice that wishes to request transfer of control of these human remains should submit a written request with information in support of the request to Dr. Robert King, BLM-Alaska State NAGPRA Coordinator, 222 West 7th Avenue, Box 13, Anchorage, AK 99513-7599, telephone (907) 271-5510, email r2king@blm.gov, by March 26, 2018. After that date, if no additional requestors have come forward, transfer of control of the human remains to Native Village of Ouzinkie may proceed.

The BLM, Alaska State Office, is responsible for notifying the Native Village of Ouzinkie that this notice has been published.

Dated: February 5, 2018.
Melanie O'Brien,
Manager, National NAGPRA Program.

[FR Doc. 2018-03628 Filed 2-21-18; 8:45 am]

BILLING CODE 4312-52-P